DEPARTMENT OF TRANSPORTATION

Federal Aviation Administration

Public Notice of Availability of Finding of No Significant Impact (FONSI)/Record of Decision (ROD) for Capital Improvement Projects, Dane County Regional Airport, Madison, WI

AGENCY: Federal Aviation Administration (FAA), DOT.

ACTION: Notice of availability.

SUMMARY: The Federal Aviation Administration (FAA) is giving notice that a FONSI/ROD has been issued addressing anticipated environmental impacts expected to occur from a decision to proceed with capital improvement projects at Dane County Regional Airport, Madison, WI.

FOR FURTHER INFORMATION CONTACT: Mr. Daniel J. Millenacker, Federal Aviation Administration, Airports District Office, 6020 28th Avenue South, Room 102, Minneapolis, MN 55450-2706. Telephone Number (612) 713-4359/Fax Number (612) 713-4364.

SUPPLEMENTARY INFORMATION: This Notice is provided per 40 CFR 1506.6 notifying the public that a FONSI/ROD has been issued by the FAA identifying anticipated environmental impacts from a decision to proceed with airport capital improvement projects. Projects are intended to enhance compliance with Federal airport safety design standards including runway safety area, object free area, approach surfaces, and marking and lighting. The preferred alternative results in the following work items: relocation of a segment of rail line to the northwest from its current location; relocation of County Highway “CV” and Messerschmidt Road; relocation of the West Branch of Starkweather Creek; relocation of the airport perimeter road and perimeter fence; and extension of Runway 13/31 by 570 feet.

The FONSI/ROD is available for public examination from August 9, through August 23, 2004, at the following locations: Lakeview Branch of the Madison Public Library, 2845 N. Sherman Ave., Madison, WI; Office of Dane County Clerk, 210 Martin Luther King Blvd., Madison, WI 53703; Dane County Regional Airport, Office of Director, 4000 International Lane, Madison, WI; Town of Burke, Town Clerk, 5365 Reiner Rd, Madison, WI; DOT Transportation District 1, 2101 Wright Street, Madison, WI; Bureau of Aeronautics, 4802 Sheboygan Avenue, Room 701, Madison, Wisconsin; and FAA Airports District Office, 6020 28th Ave., So., Room 102, Minneapolis, MN.

Issued in Minneapolis, MN, on July 19, 2004.
Robert Huber,
Manager, Minneapolis Airports District Office, FAA, Great Lakes Region.

[FR Doc. 04-17831 Filed 8-4-04; 8:45 am]

BILLING CODE 4910-13-M